DEPARTMENT OF VETERANS AFFAIRS

[OMB Control No. 2900-0463]

Agency Information Collection Activity: Notice of Waiver of VA Compensation or Pension To Receive Military Pay and Allowances

AGENCY: Veterans Benefits Administration, Department of Veterans Affairs.

ACTION: Notice.

SUMMARY: Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed revision of a currently approved collection, and allow 60 days for public comment in response to the notice.

DATES: Comments must be received on or before November 14, 2025.

ADDRESSES: Comments must be submitted through www.regulations.gov.

FOR FURTHER INFORMATION CONTACT:

Program-Specific information: Kendra Mccleave, 202-461-9760, kendra.mccleave@va.gov.

VA PRA information: Dorothy Glasgow, 202-461-1084, VAPRA@va.gov.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VBA invites comments on: (1) whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: Notice of Waiver of VA Compensation or Pension to Receive Military Pay and Allowances (VA Form 21-8951-2).

OMB Control Number: 2900-0463. https://www.reginfo.gov/public/do/PRASearch (Once at this link, you can enter the OMB Control Number to find the historical versions of this Information Collection). This is a revision with the respondent burden increasing due to the final regulation under RIN #2900-AP86 taking effect January 11, 2024.

Type of Review: Revision of a currently approved collection.

Abstract: VA Form 21-8951-2 is used by reservists/guardsmen filing a waiver of VA disability benefits to receive active or inactive duty training pay or to notify VA to resume benefits as his/her active service has completed. Without this information, the reduction in overpayments and/or erroneous payments associated with receipt of VA disability compensation or pension could cause hardship on behalf of the claimant.

Affected Public: Individuals or Households.

Estimated Annual Burden: 5,766 hours.

Estimated Average Burden per Respondent: 10 minutes.

Frequency of Response: One time.

Estimated Number of Respondents: 34,594 per year.

Authority: 44 U.S.C. 3501 et seq.

Lanea Haynes,
Acting, VA PRA Clearance Officer, (Alt) Office of Enterprise and Integration/Data Governance Analytics, Department of Veterans Affairs.

[FR Doc. 2025-17760 Filed 9-12-25; 8:45 am]

BILLING CODE 8320-01-P